DEPARTMENT OF THE INTERIOR

Fish and Wildlife Service

[FWS-R3-ES-2014-N159; FXES11130300000-145-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications we've received for permits to authorize take of federally listed species. Although the Endangered Species Act (Act) prohibits the take of species listed as endangered or threatened under the Act, the USFWS may issue permits authorizing the take of endangered or threatened species if certain conditions are met by the applicant, and when such take will not appreciably reduce the likelihood of the survival and recovery of the species in the wild. The Act requires that we invite public comment before we issue these permits.

DATES: We must receive any written comments on or before September 5, 2014.

ADDRESSES: Send written comments by U.S. mail to the Regional Director, Attn: Thomas J. Magnuson, U.S. Fish and Wildlife Service, Ecological Services, 5600 American Blvd. West, Suite 990, Bloomington, MN 55437-1458; or by electronic mail to permitsR3ES@fws.gov.

FOR FURTHER INFORMATION CONTACT: Thomas J. Magnuson, (612) 713-5467.

SUPPLEMENTARY INFORMATION:

Background

We invite public comment on the following permit applications for certain activities with federally listed species authorized by section 10(a)(1)(A) of the Act (16 U.S.C. 1531 et seq.) and our regulations governing the taking of endangered species in the Code of Federal Regulations (CFR) at 50 CFR part 17. Submit your comments, or request for a copy of the complete application to the mailing address or email address shown in ADDRESSES.

Permit Applications

Permit Application Number: TE40128B

Applicant: Charles Morgan, Mainstream Commercial Divers, Inc.

The applicant requests a permit to take (survey, capture and release; non-destructive sampling) all threatened and endangered unionid mussels within the States of Alabama, Arkansas, Florida, Georgia, Illinois, Indiana, Iowa, Kentucky, Louisiana, Michigan, Minnesota, Mississippi, Missouri, Ohio, Pennsylvania, Tennessee, West Virginia, and Wisconsin. Proposed activities are for the recovery and enhancement of survival of the species in the wild.

Permit Application Number: TE82666A

Applicant: Justin Boyles, University of Southern Illinois

The applicant requests a permit amendment to add the northern long-eared bat (Myotis septentrionalis) to their permit. The requested amendment would also add personnel to the permit. Proposed activities are for the recovery and enhancement of survival of the species in the wild.

Permit Application Number: TE049738

Applicant: Foree Davis, Third Rock Consultants, LLC.

The applicant requests a permit amendment to add the following mussel and fish species to their permit. Proposed activities are for the recovery and enhancement of survival of the species in the wild.

Mussel Species

Alabama lampmussel (Lampsilis virescens)

Alabama moccasinshell mussel (Medionidus acutissimus)

Appalachian elktoe mussel (Alasmidonta raveneliana)

Appalachian monkeyface mussel (Quadrula sparsa)

Birdwing pearlymussel (Lemiox rimosus)

Coosa moccasinshell (Medionidus parvulus)

Cracking pearlymussel (Hemistena lata)

Finelined pocketbook mussel (Lampsilis altilis)

Finerayed pigtoe mussel (Fusconaia cuneolus)

Fluted kidneyshell mussel (Ptychobranchus subtentum)

Georgia pigtoe mussel (Pleurobema hanleyianum)

Green blossom pearlymussel (Epioblasma torulosa gubernaculum)

Ovate clubshell mussel (Pleurobema perovatum)

Pale Lilliput mussel (Toxolasma cylindrellus)

Rabbitsfoot mussel (Quadrula cylindrica cylindrica)

Rayed bean (Villosa fabalis)

Rough rabbitsfoot (Quadrula cylindrica strigillata)

Scaleshell mussel (Leptodea leptodon)

Sheepnose (Plethobasus cyphyus)

Shiny pigtoe (Fusconaia cor)

Slabside pearlymussel (Pleuronaia dolabelloides)

Snuffbox mussel (Epioblasma triquetra)

Southern acornshell mussel (Epioblasma othcaloogenis)

Southern pigtoe mussel (Pleurobema georgianum)

Spectaclease mussel (Cumberlandia monodonta)

Tan riffleshell mussle (Epioblasma florentina walkeri)

Triangular kidneyshell mussel (Ptychobranchus greenii)

Tubercled blossom mussel (Epioblasma torulosa torulosa)

Turgid blossom mussel (Epioblasma turgidula)

White wartyback mussel (Plethobasus cicatricosus)

Winged mapleleaf mussel (Quadrula fragosa)

Yellow blossom mussel (Epioblasma florentina florentina)

Fish Species

Spotfin chub (Erimonax monachus)

Slender chub (Erimystax cahni)

Relict darter (Etheostoma chienense)

Tuxedo darter (Etheostoma lemniscatum)

Marbled darter (Etheostoma marmorpinnum)

Duskytail darter (Etheostoma percnurum)

Citico darter (Etheostoma sitikuense)

Snail darter (Percina tanasi)

Diamond darter (Crystallaria cincotta)

Cumberland darter (Etheostoma susanae)

Palezone shiner (Notropis albizonatus)

Blackside dace (Phoxinus cumberlandensis)

Permit Application Number: TE48833A

Applicant: Brian Carver, Tennessee Tech University

The applicant requests a permit renewal to take (capture, handle, radio-tag, and release) the Indiana bat (Myotis sodalis) and gray bat (M. grisescens) in the State of Tennessee. Proposed activities are for the recovery and enhancement of survival of the species in the wild.

Permit Application Number: TE07730A

Applicant: Kiersten Fuchs, Redwing Ecological Services, Inc.

The applicant requests a permit amendment to add the rabbitsfoot mussel (Quadrula cylindrica cylindrica), fluted kidneyshell mussel (Ptychobranchus subtentum), and the slabside pearlymussel (Pleuronaia dolabelloides) to their permit. The requested amendment would also add personnel to their permit. Proposed activities are for the recovery and enhancement of survival of the species in the wild.

Permit Application Number: TE38085B

Applicant: Keith A. Johnson, Mountain State Biosurveys, LLC

The applicant requests a permit to take (survey, capture and release; non-destructive sampling) the Indiana bat (Myotis sodalis) in the States of Alabama, Arkansas, Florida, Georgia, Kentucky, Louisiana, Mississippi, North Carolina, Puerto Rico/Virgin Islands, South Carolina, Tennessee, Ohio, Indiana, Illinois, Michigan, Wisconsin, Minnesota, Ohio, and Missouri. Proposed activities are for the recovery an enhancement of survival of the species in the wild.

Permit Application Number: TE2373A

Applicant: Virgil Brack, Environmental Solutions and Innovations

The applicant requests a permit amendment to take (survey, capture and release; non-destructive sampling) the Rabbitsfoot mussel (Quadrula cylindrica cylindrica) in the States of Alabama, Arkansas, Florida, Georgia, Kentucky, Louisiana, Mississippi, North Carolina, Puerto Rico/Virgin Islands, South Carolina, Tennessee, Ohio, Indiana, Illinois, Michigan, Wisconsin, Minnesota, Ohio, and Missouri. Proposed activities are for the recovery and enhancement of survival of the species in the wild.

Permit Application Number: TE73584A

Applicant: Brian Anderson, Illinois Natural History Survey

The applicant requests a permit amendment to take (survey, capture and release; non-destructive sampling) the scaleshell mussel (Leptodea leptodon), rabbitsfoot mussel (Quadrula cylindrica cylindrica), and spectaclecase mussel (Cumberlandia monodonta) in the State of Illinois. Proposed activities are for the recovery and enhancement of survival of the species in the wild.

Permit Application Number: TE06801A

Applicant: Neil Bossart, Pittsburgh Wildlife and Environmental, Inc.

The applicant requests a permit amendment to add personnel to their permit. Proposed activities are for the recovery and enhancement of survival of the species in the wild.

Permit Application Number: TE40160B

Applicant: Daniel J. Call, Environmental Research and Information Analysts, LLC

The applicant requests a permit to take (survey, capture and release; nondestructive sampling) the fat pocketbook mussel (Potamilus capax), Higgin's eye pearlymussel (Lampsilis higginsii), scaleshell mussel (Leptodea leptodon), sheepnose mussel (Plethobasus cyphyus), spectaclecase mussel (Cumberlandia monodonta), and winged mapleleaf mussel (Quadrula fragosa) in the Upper Mississippi River in the State of Illinois. Proposed activities are for the recovery and enhancement of survival of the species in the wild.

Permit Application Number: TE02344A

Applicant: Donald C. Fortenbery, Mainstream Commercial Divers, Inc.

The applicant requests a permit amendment to add the rabbitsfoot mussel (Quadrula cylindrica cylindrica), finelined pocketbook mussel (Lampsilis altilis), southern clubshell mussel (Pleurobema decisum), and triangular kidneyshell mussel (Ptychobranchus greenii) to their permit. The requested amendment would also add personnel to the permit. Proposed activities are for the recovery and enhancement of survival of the species in the wild.

Request for Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: July 30, 2014.
Lynn M. Lewis,
Assistant Regional Director, Ecological Services, Midwest Region.

[FR Doc. 2014-18589 Filed 8-5-14; 8:45 am]

BILLING CODE 4310-55-P